ENVIRONMENTAL PROTECTION AGENCY

[EPA-HQ-OW-2003-0019; FRL-9155-1]

Agency Information Collection Activities; Proposed Collection; Comment Request; Clean Watersheds Needs Survey (Renewal); ICR No. 0318.12; OMB Control No. 2040-0050

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on January 31, 2011. Before submitting the ICR to OMB for review and approval, EPA is soliciting comments on specific aspects of the proposed information collection as described below.

DATES: Comments must be submitted on or before July 26, 2010.

ADDRESSES: Submit your comments, identified by Docket ID No. EPA-HQ-OW-2003-0019, by one of the following methods:

• http://www.regulations.gov: Follow the online instructions for submitting comments.

• E-mail: OW-Docket@epa.gov.

• Fax: (202) 566-9744.

• Mail: Water Docket, Environmental Protection Agency, Mailcode: 4104T, 1200 Pennsylvania Ave., NW., Washington, DC 20460.

• Hand Delivery: Docket at Public Reading Room, Room B102, EPA West Building, 1301 Constitution Avenue, NW., Washington, DC. Such deliveries are only accepted during the Docket's normal hours of operation, and special arrangements should be made for deliveries of boxed information.

Instructions: Direct your comments to Docket ID No. EPA-HQ-OW-2003-0019. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Michael Plastino, Municipal Support Division, Office of Wastewater Management, Environmental Protection Agency, 1200 Pennsylvania Ave., NW., Washington, DC 20460; phone number: 202-564-0682; fax number: 202-501-2397; email address: cwns@epa.gov.

SUPPLEMENTARY INFORMATION:

How can I access the docket and/or submit comments?

EPA has established a public docket for this ICR under Docket ID No. EPA-HQ-OW-2003-0019, which is available for online viewing at http://www.regulations.gov,, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov, to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected Entities: Entities potentially affected by this action are state governments and publicly owned wastewater treatment facilities.

Title: Clean Watersheds Needs Survey (CWNS) 2012 (Renewal).

ICR numbers: EPA ICR No. 0318.12, OMB Control No. 2040-0050.

ICR status: This ICR is currently scheduled to expire on January 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Watersheds Needs Survey (CWNS) is required by Sections 205(a) and 516(b)(1) of the Clean Water Act (http://www.epa.gov/cwns). It is a periodic inventory of existing and proposed publicly owned wastewater treatment works (POTWs) and other water pollution control facilities in the United States, as well as an estimate of how many POTWs need to be built. The CWNS is a joint effort of EPA and the States and Territories. The Survey records cost and technical data associated with POTWs and other water pollution control facilities, existing and proposed, in the United States. The State respondents who provide this information to EPA are State agencies responsible for environmental pollution control. No confidential information is used, nor is sensitive information protected from release under the Public Information Act. EPA achieves national consistency in the final results through the application of uniform guidelines and validation techniques.

For CWNS 2012, EPA is offering States two options for participating: (1) The Traditional Method and (2) the Gap Approach Option. The Gap Approach Option enables a State to comprehensively assess at the State level, for various facility size groupings, wastewater facility revenues and capital and operation maintenance (O&M) expenses over 20 years. This comprehensive facility economic analysis supports State and EPA sustainable infrastructure programs. The Traditional Method enables States to assess the capital needs for each facility within the state. This spatially comprehensive assessment of capital needs, along with current and projected populations receiving various levels of wastewater treatment, supports holistic watershed management approaches.

Under the “Traditional Method” of documenting water pollution control needs, states submit capital needs for all facilities in the state:

• Wastewater Treatment Plants.

• Separate Sewer Systems.

• Combined Sewer Systems.

• Stormwater Management.

• Decentralized Wastewater Treatment.

• Nonpoint Source (NPS) Control.

For each need, states submit one or more supporting documents (Facility Plan, Engineer's Estimate, etc.). Revenue and operation and maintenance (O&M) needs data are not collected in the Traditional Method.

Under the “Gap Approach” to documenting water pollution control needs, states submit capital & O&M needs and revenues for a sample of these facilities:

• Wastewater Treatment Plants.

• Separate Sewer Systems.

• Combined Sewer Systems.

For these sampled facilities, revenues are submitted and asset condition analysis data is used to estimate capital and O&M needs. Results from the sample set of facilities are extrapolated to provide State level estimates at ±25% accuracy. Average sample rates are:

• 10-25% for facilities serving less than 10,000 people.

• 30-60% for facilities serving between 10,000 and 100,000 people.

• 100% (census survey) for the largest 3% of facilities in each state.

EPA is interested in comments and information on an alternate sample design that would provide state level estimates at ±10% accuracy. Under this alternative, average sample rates would be:

• 15-45% for facilities serving less than 10,000 people.

• 35-80% for facilities serving between 10,000 and 100,000 people.

• 100% (census survey) for the largest 3% of facilities in each state.

Since in CWNS the Gap Approach is only applicable to Wastewater Treatment Plants, Separate Sewer Systems, and Combined Sewer Systems, States selecting the Gap Approach will use the Traditional Method for all other facilities (Stormwater Management, Decentralized Wastewater Treatment, NPS Control).

Burden Statement: The annual public reporting and recordkeeping burden for this collection of information is estimated to average 1.55 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Frequency of response: Every 4 years.

Estimated total number of potential respondents: 56 States (States, District of Columbia, U.S. Territories) and 5,122 Local Facilities.

Estimated total average number of responses for each State respondent: 271.

Estimated total annual State burden hours: 7,053.

Estimated total average number of responses for each Local Facility respondent: 5,122.

Estimated total annual Local Facility burden hours: 2,031.

Estimated total annual costs: $284,372 for States and $85,666 for Local Facilities. These costs are all capital costs, there are no maintenance and operational costs.

Are there changes in the estimates from the last approval?

There is an increase of 277 hours in the total estimated respondent burden compared with that identified in the ICR currently approved by OMB. The 277 hour increase is the net result of a decrease of 182 State burden hours combined with an increase of 459 hours in Local Facility burden hours. These changes are estimated impacts of 10 States selecting the Gap Approach Option. In this option, total state effort is projected to decrease slightly due to the sampling design (the greater State effort per facility is slightly more than offset by entering data for a sampled portion of facilities rather than for all facilities). For Local Facilities, the projected increased burden results from the extra per facility effort being slightly more than the burden saved by switching from a census to a sampling approach.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 20, 2010.
Sheila E. Frace,
Acting Director, Office of Wastewater Management.

[FR Doc. 2010-12651 Filed 5-25-10; 8:45 am]

BILLING CODE 6560-50-P